DEPARTMENT OF TRANSPORTATION

Federal Aviation Administration

14 CFR Part 39

[Docket No. FAA-2007-29067; Directorate Identifier 2007-NM-148-AD; Amendment 39-15926; AD 2009-12-03]

RIN 2120-AA64

Airworthiness Directives; Boeing Model 757-200, -200CB, and -300 Series Airplanes

AGENCY: Federal Aviation Administration (FAA), DOT.

ACTION: Final rule.

SUMMARY: We are adopting a new airworthiness directive (AD) for certain Boeing Model 757-200, -200CB, and -300 series airplanes. This AD requires a detailed inspection for damage of the wire bundle of the right recirculation fan, and repair if necessary. This AD also requires re-routing the wire bundle of the right recirculation fan. This AD results from a report indicating that, during landing of a Model 757 airplane, an overheat warning and smoke occurred in the main cabin, and the right recirculation fan stopped operating. We are issuing this AD to prevent damage of the wiring bundle of the right recirculation fan. Such damage could result in a short circuit and possible fire in the mix bay or smoke in the main cabin.

DATES: This AD is effective July 16, 2009.

The Director of the Federal Register approved the incorporation by reference of a certain publication listed in the AD as of July 16, 2009.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Philip Sheridan, Systems and Equipment Branch, ANM-130S, FAA, Seattle Aircraft Certification Office, 1601 Lind Avenue, SW., Renton, Washington 98057-3356; telephone (425) 917-6441; fax (425) 917-6590.

SUPPLEMENTARY INFORMATION:

Discussion

We issued a notice of proposed rulemaking (NPRM) to amend 14 CFR part 39 to include an airworthiness directive (AD) that would apply to certain Boeing Model 757-200, -200CB, and -300 series airplanes. That NPRM was published in the Federal Register on August 31, 2007 (72 FR 50290). That NPRM proposed to require a detailed inspection for damage of the wire bundle of the right recirculation fan, and repair if necessary. That NPRM also proposed to require re-routing the wire bundle of the right recirculation fan.

Actions Since the NPRM Was Issued

The NPRM referred to Boeing Service Bulletin 757-21-0109, dated December 15, 2006, as the appropriate source of service information for the proposed actions. Boeing has since revised that service bulletin. Boeing Service Bulletin 757-21-0109, Revision 1, dated October 30, 2008, clarifies certain procedures but otherwise adds no new actions. We have revised paragraphs (c) and (f) in this final rule to refer to Revision 1 of the service bulletin. We have added a new paragraph (g) to this final rule to provide credit for actions done before the effective date of the AD in accordance with the original service bulletin. We have renumbered subsequent paragraphs accordingly.

Comments

We gave the public the opportunity to participate in developing this AD. We considered the comments received from the two commenters.

Support for the NPRM

Boeing concurs with the contents of the NPRM.

Request To Clarify Procedures

Continental Airlines asks for clarification or instructions regarding the filler material between the e-clip, part number 411A4902-7, and the wire and the clip in the depiction in Boeing Service Bulletin 757-21-0109, dated December 15, 2006.

We agree that further clarification is needed on this point. Boeing Service Bulletin 757-21-0109, Revision 1, dated October 30, 2008, provides a filler rod part number and corrects the reference in note (b) for Figure 3 and Figure 4 of that service bulletin. As stated previously, we have changed the final rule to refer to Revision 1 of the service bulletin as the appropriate source of service information for this final rule.

Request To Include Instructions for Modified Airplanes

Continental Airlines requests that we revise the NPRM to provide instructions for airplanes that are not in the pre-modification state depicted by Boeing Service Bulletin 757-21-0109, dated December 15, 2006.

We find that clarification is necessary. Boeing Service Bulletin 757-21-0109, Revision 1, dated October 30, 2008, is now referenced in the final rule. It addresses six new wire configurations which take into account the known preexisting configurations. We have not changed the final rule regarding this issue.

Request To Revise NPRM To Require Different Method of Compliance

Continental Airlines suggests using a heat shrinkable sleeve in place of the “heat shrinkable” sleeve TFE-2X, which the commenter states is in fact not heat shrinkable. The commenter states that in its experience tying the lacing tape around the sleeve is extremely difficult, and it does not believe that the sleeve will stay on much more than a year at best.

We infer that the commenter is requesting a different method of compliance. We disagree. Boeing Service Bulletin 757-21-0109, Revision 1, dated October 30, 2008, specifies to use a sleeve with part number 65C38488-2. We have not changed the final rule regarding this issue. However, under the provisions of paragraph (h) of this AD, we may approve a request for different compliance methods if the request includes data that prove that the new method provides an acceptable level of safety.

Explanation of Change to Final Rule

We have clarified paragraph (h) of this AD to more accurately identify the information for requesting approval of an alternative method of compliance (AMOC).

Conclusion

We reviewed the relevant data, considered the comments received, and determined that air safety and the public interest require adopting the AD with the changes described previously. We also determined that these changes will not increase the economic burden on any operator or increase the scope of the AD.

Costs of Compliance

There are about 920 airplanes of the affected design in the worldwide fleet. This AD affects about 560 airplanes of U.S. registry. The actions take about 2 work hours per airplane, at an average labor rate of $80 per work hour. Required parts cost about $81 per airplane. Based on these figures, the estimated cost of the AD for U.S. operators is $134,960, or $241 per airplane.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-12-03 Boeing: Amendment 39-15926. Docket No. FAA-2007-29067; Directorate Identifier 2007-NM-148-AD.

Effective Date

(a) This airworthiness directive (AD) is effective July 16, 2009.

Affected ADs

(b) None.

Applicability

(c) This AD applies to Boeing Model 757-200, -200CB, and -300 series airplanes; certificated in any category; as identified in Boeing Service Bulletin 757-21-0109, Revision 1, dated October 30, 2008.

Unsafe Condition

(d) This AD results from a report indicating that, during landing of a Model 757 airplane, an overheat warning and smoke occurred in the main cabin, and the right recirculation fan stopped operating. We are issuing this AD to prevent damage of the wiring bundle of the right recirculation fan. Such damage could result in a short circuit and possible fire in the mix bay or smoke in the main cabin.

Compliance

(e) You are responsible for having the actions required by this AD performed within the compliance times specified, unless the actions have already been done.

Inspection and Corrective Actions

(f) Within 24 months after the effective date of this AD, do the actions required by paragraphs (f)(1) and (f)(2) of this AD, in accordance with the Accomplishment Instructions of Boeing Service Bulletin 757-21-0109, Revision 1, dated October 30, 2008.

(1) Do a detailed inspection for damage of the wire bundle of the right recirculation fan, and repair any damage before further flight.

(2) Re-route the wire bundle and re-orient the electrical connector of the right recirculation fan.

Credit for Actions Done According to Previous Issue of Service Bulletin

(g) Actions done before the effective date of this AD in accordance with Boeing Service Bulletin 757-21-0109, dated December 15, 2006, are acceptable for compliance with the requirements of paragraphs (f)(1) and (f)(2) of this AD.

Alternative Methods of Compliance (AMOCs)

(h)(1) The Manager, Seattle Aircraft Certification Office, FAA, has the authority to approve AMOCs for this AD, if requested using the procedures found in 14 CFR 39.19. Send information to Attn: Philip Sheridan, Systems and Equipment Branch, ANM-130S, FAA, Seattle Aircraft Certification Office, 1601 Lind Avenue, SW., Renton, Washington 98057-3356; telephone (425) 917-6441; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(i) You must use Boeing Service Bulletin 757-21-0109, Revision 1, dated October 30, 2008, to do the actions required by this AD, unless the AD specifies otherwise.

(1) The Director of the Federal Register approved the incorporation of this service information under 5 U.S.C. 552 (a) and 1 CFR part 51.

(2) For service information identified in this AD, contact Boeing Commercial Airplanes, Attention: Data & Services Management, P. O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on June 1, 2009.
Stephen P. Boyd,
Acting Manager, Transport Airplane Directorate, Aircraft Certification Service.

[FR Doc. E9-13137 Filed 6-10-09; 8:45 am]

BILLING CODE 4910-13-P